DEPARTMENT OF VETERANS AFFAIRS

Advisory Committee on Minority Veterans, Notice of Meeting

The Department of Veterans Affairs (VA) gives notice under the Public Law 92-463 (Federal Advisory Committee Act) that a meeting of the Advisory Committee on Minority Veterans will be held from Tuesday, September 23, 2003, through Thursday, September 25, 2003, in Seattle, Washington. On September 23, the meeting will be from 10 a.m. until 4:30 p.m. at the VA Puget Sound Health Care System, 1660 S. Columbian Way, Room BB108, Seattle, Washington. On September 24, the meeting will be from 2:30 p.m. until 8 p.m. at the Yakama Nation Tribal Headquarters, Yakama Nation Eagle Seelatsee Auditorium. On September 25, the meeting will be from 1:30 p.m. until 3:30 p.m. at the VA Regional Office, 915 Second Ave, Room 1010A, Seattle, Washington, and from 5 p.m. until 7 p.m. at the VA Puget Sound Health Care System in Room BB108.

The purpose of the Committee is to advise the Secretary on the administration of VA benefits and services to minority veterans, to assess the needs of minority veterans and to evaluate whether VA compensation, medical and rehabilitation services, outreach, and other programs are meeting those needs. The Committee will make recommendations to the Secretary regarding such activities.

On September 23, the Committee will hold panel discussions with key staff members from VA Northwest Veterans Integrated Services Network (20), VA Puget Sound Health Care System and Portland Regional Office on services and benefits delivery challenges and concerns for the Seattle-Tacoma area veterans.

On September 24, the Committee will receive a briefing on Camp Chaparral and hold a veteran town hall meeting beginning at 6 p.m.

On September 25, the Committee will hold panel discussions with various veteran service organizations, several congressional staff and other stakeholders on their concerns and observations of Seattle-Tacoma veterans' needs. The Committee will hold a veteran town hall meeting beginning at 5 p.m.

These sessions will be open to the public. The Committee will accept written comments from interested parties on issues outlined in the meeting agenda, as well as other issues affecting minority veterans. Such comments should be referred to the Committee at the following address: Advisory Committee on Minority Veterans, Center for Minority Veterans (00M), U.S. Department of Veterans Affairs, 810 Vermont Avenue, NW., Washington, DC 20420.

For additional information about the meeting, please contact Ms. Elizabeth Olmo at (202) 273-6708.

Dated: August 28, 2003.
By direction of the Secretary.
E. Philip Riggin,
Committee Management Officer.

[FR Doc. 03-22595 Filed 9-4-03; 8:45 am]

BILLING CODE 8320-01-M